DEPARTMENT OF HEALTH AND HUMAN SERVICES

National Institutes of Health

National Institute of General Medical Sciences; Amended Notice of Meeting

Notice is hereby given of a change in the meeting of the National Institute of General Medical Sciences Special Emphasis Panel, Review of IDeA Clinical Research Resource Center (U24), April 7, 2023, 10:00 a.m.-05:00 p.m., National Institutes of Health, National Institute of General Medical Sciences, Natcher Building, 45 Center Drive, Bethesda, Maryland 20892 which was published in the Federal Register on March 06, 2023, FR Doc 2023-04476, 88 FR 13837.

This notice is being amended to change the meeting date and time from April 7, 2023, 10:00 a.m.-05:00 p.m. to April 14, 2023, 09:30 a.m.-12:00 p.m. The meeting location will stay the same. The meeting is closed to the public.

Dated: March 15, 2023.
David W Freeman,
Program Analyst, Office of Federal Advisory Committee Policy.

[FR Doc. 2023-05703 Filed 3-20-23; 8:45 am]

BILLING CODE 4140-01-P